DEPARTMENT OF THE INTERIOR

National Park Service

[NPS-WASO-NRNHL-DTS#-31615; PPWOCRADI0, PCU00RP14.R50000]

National Register of Historic Places; Notification of Pending Nominations and Related Actions

AGENCY: National Park Service, Interior.

ACTION: Notice.

SUMMARY: The National Park Service is soliciting electronic comments on the significance of properties nominated before March 6, 2021, for listing or related actions in the National Register of Historic Places.

DATES: Comments should be submitted electronically by April 1, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before March 6, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

FLORIDA

Indian River County

Fellsmere Historic District (Fellsmere MPS), North Myrtle St., South Carolina Ave., North Oak St., and Virginia Ave., Fellsmere, MP100006378

Pinellas County

Civitan Beach House, 18602-18604 Gulf Blvd., Indian Shores, SG100006377

GEORGIA

Fulton County

Winnwood Apartments, 1460 West Peachtree St. NW, Atlanta, SG100006379

MONTANA

Yellowstone County

Pioneer Park, Roughly bounded by Parkhill Dr., 3rd St. West, and Virginia Ln., Billings, SG100006391

NORTH CAROLINA

Surry County

Mount Airy Historic District (Boundary Decrease), 409, 417-423 Franklin St.; 418 West Pine St., 3 unaddressed parcels at the east corner of South Main and Hamburg Sts., and 209, 215, 218, 219 Hines Ave., Mount Airy, BC100006394

TENNESSEE

Cocke County

Laurel Springs Primitive Baptist Church, 278 Laurel Springs Rd., Cosby vicinity, SG100006382

Dickson County

Lonesome, 2004 TN 96, Burns, SG100006381

Hamilton County

Christ Church Episcopal, 663 Douglas St., Chattanooga, SG100006386

Shelby County

Missouri Portland Cement Terminal, 48 Henry Ave., Memphis, SG100006384

Memphis Overland Company, 421 Monroe Ave., Memphis, SG100006385

UTAH

Salt Lake County

Beckstead-Butterfield House (Riverton, Utah MPS), 13032 South Redwood Rd., Riverton, MP100006389

VIRGINIA

Mecklenburg County

Averett School and Wharton Memorial Baptist Church and Cemetery, 57 White House Rd., Nelson, SG100006387

WEST VIRGINIA

Jefferson County

Taylor's Meadow, Address Restricted, Shepherdstown vicinity, SG100006390

Kanawha County

West Virginia State University Faculty House Historic District, Faculty and Staff Cir., Institute, SG100006395

Randolph County

Graham-Davis Historic District, Generally bounded by Randolph and South Randolph Aves., 11th St., Granny's Ln., and the Tygart Valley R., Elkins, SG100006396

A request for removal has been made for the following resource:

TENNESSEE

Claiborne County

Wier, James, House, Eppes St., Tazewell, OT 79002419

Authority: Section 60.13 of 36 CFR part 60.

Dated: March 9, 2021.
Sherry A. Frear,
Chief, National Register of Historic Places/National Historic Landmarks Program.

[FR Doc. 2021-05485 Filed 3-16-21; 8:45 am]

BILLING CODE 4312-52-P